DEPARTMENT OF EDUCATION

Extension of Deadline for Transmittal of Application Amendments for the Temporary Emergency Impact Aid for Displaced Students Program; Hurricane Education Recovery

AGENCY: Office of Elementary and Secondary Education, Department of Education.

ACTION: Notice; extension of deadline for amendments.

SUMMARY: On April 25, 2018, the U.S. Department of Education (Department) published in the Federal Register (83 FR 18015) a notice announcing the availability of funds and application deadlines for the Temporary Emergency Impact Aid for Displaced Students (Emergency Impact Aid) under Division B, Subdivision 1, Title VIII, “Hurricane Education Recovery,” of Public Law 115-123, the “Bipartisan Budget Act of 2018.” On May 24, 2018, the Department published in the Federal Register (83 FR 24092) a notice extending the original deadline for State educational agency (SEA) transmittal of applications and establishing a due date of July 20, 2018 for any application amendments for the Emergency Impact Aid program. This notice extends the July 20, 2018 deadline for SEA transmittal of application amendments affecting allocations under the Emergency Impact Aid program to October 5, 2018.

DATES: Deadline for Transmittal of SEA Application Amendments for the Emergency Impact Aid Program: October 5, 2018. SEAs must submit any application amendments affecting allocations under the Emergency Impact Aid program to the Department no later than October 5, 2018.

FOR FURTHER INFORMATION CONTACT: For additional information on the Emergency Impact Aid program, please contact Francisco Ramirez. Telephone (202) 260-1541. Email: K12EmergencyImpactAid@ed.gov.

If you use a telecommunications device for the deaf (TDD) or a text telephone (TTY), call the Federal Relay Service (FRS), toll free, at 1-800-877-8339.

SUPPLEMENTARY INFORMATION: On April 25, 2018, we published in the Federal Register (83 FR 18015) a notice announcing availability of funds and application deadlines for the Emergency Impact Aid program under Division B, Subdivision 1, Title VIII, “Hurricane Education Recovery,” of Public Law 115-123, the “Bipartisan Budget Act of 2018.” On May 24, 2018, the Department published in the Federal Register (83 FR 24092) a notice extending the original deadline for SEA transmittal of applications and establishing a due date of July 20, 2018 for any application amendments for the Emergency Impact Aid program. This notice extends the July 20, 2018 deadline for SEA transmittal of application amendments affecting allocations under the Emergency Impact Aid program to October 5, 2018, including any updated enrollment data generally for any quarter and any previously unreported fourth quarter data for the 2017-18 school year. If an SEA has already submitted final data for the Emergency Impact Aid program, it need not take any action. Except as detailed in this notice, all other requirements and conditions stated in the notice announcing availability of funds remain the same. Additional information about the Emergency Impact Aid program is available on the Department's website at www.ed.gov/disasterrelief.

Exemption From Rulemaking: These programs are exempt from the rulemaking requirements in section 437 of the General Education Provisions Act (GEPA) (20 U.S.C. 1232) and section 553 of the Administrative Procedure Act (APA) (5 U.S.C. 553), as established in Division B, Subdivision 1, Title VIII, “Hurricane Education Recovery” paragraph (6), of Public Law 115-123, the “Bipartisan Budget Act of 2018.” 132 Stat. 98.

Program Authority: Division B, Subdivision 1, Title VIII of Public Law 115-123, the “Bipartisan Budget Act of 2018.”

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents published by this Department in the Federal Register, in text or Portable Document Format (PDF). To use PDF you must have Adobe Acrobat Reader, which is available free through a link at the site.

You may also access documents of the Department published in the Federal Register by using the article search feature at: www.federalregister.gov. Specifically, through the advanced search feature at this site, you can limit your search to documents published by the Department.

Dated: September 17, 2018.
Frank Brogan,
Assistant Secretary for Elementary and Secondary Education.

[FR Doc. 2018-20538 Filed 9-20-18; 8:45 am]

BILLING CODE 4000-01-P